DEPARTMENT OF COMMERCE

International Trade Administration

[A-201-835]

Lemon Juice From Mexico: Termination of Suspended Investigation

AGENCY: Import Administration, International Trade Administration, Department of Commerce.

SUMMARY: As a result of the determination by the International Trade Commission (the “ITC”) that termination of the suspended antidumping duty investigation on lemon juice from Mexico would not be likely to lead to the continuation or recurrence of material injury to an industry in the United States, the Department of Commerce (the “Department”) is terminating the suspended antidumping duty investigation. As a result, the Department is also terminating the Agreement Suspending the Antidumping Investigation on Lemon Juice from Mexico (the “Agreement”).

DATES: Effective Date: September 21, 2012.

FOR FURTHER INFORMATION CONTACT: Maureen Price or Sally C. Gannon, Bilateral Agreements Unit, Import Administration, International Trade Administration, U.S. Department of Commerce, 14th Street and Constitution Avenue NW., Washington, DC 20230; telephone: (202) 482-4271 or (202) 482-0162, respectively.

SUPPLEMENTARY INFORMATION:

Background

On August 1, 2012, pursuant to section 751(c) of the Tariff Act of 1930, as amended (“the Act”), the Department initiated the first sunset review of the suspended antidumping duty investigation on lemon juice from Mexico.¹ On August 1, 2012, pursuant to section 752 of the Act, the ITC instituted the first sunset review of the suspended antidumping duty investigation on lemon juice from Mexico.² As a result of its review, on June 28, 2013, the Department found that termination of the suspended antidumping duty investigation on lemon juice from Mexico would likely lead to continuation or recurrence of dumping.³ The Department thus notified the ITC of the magnitude of the margins of dumping rates likely to prevail if the suspended investigation were terminated.

¹ Initiation of Five-Year (““Sunset”') Review and Correction, 77 FR 45589 (August 1, 2012).

² [Investigation Nos. 731-TA-1105-1106 (Review)] Lemon Juice from Argentina and Mexico, 77 FR 45653 (August 1, 2012).

³ Lemon Juice From Mexico: Final Results of Full Sunset Review of the Suspended Antidumping Duty Investigation, 78 FR 38944 (June 28, 2013).

On August 1, 2013, the ITC published its determination, pursuant to section 751(c) of the Act, that termination of the antidumping duty suspended investigation on lemon juice from Mexico would not be likely to lead to the continuation or recurrence of material injury within a reasonably foreseeable time.⁴

⁴ [Investigation Nos. 731-TA-1105-1106 (Review)] Lemon Juice from Argentina and Mexico, 78 FR 46610 (August 1, 2013)

Therefore, pursuant to section 351.222(i)(1)(iii) of the Department's regulations, the Department is publishing this notice of the termination of the suspended antidumping duty investigation on lemon juice from Mexico.

Scope of the Suspended Investigation

The merchandise covered by the suspended investigation includes certain lemon juice for further manufacture, with or without addition of preservatives, sugar, or other sweeteners, regardless of the GPL (grams per liter of citric acid) level of concentration, brix level, brix/acid ratio, pulp content, clarity, grade, horticulture method (e.g., organic or not), processed form (e.g., frozen or not-from-concentrate), FDA standard of identity, the size of the container in which packed, or the method of packing.

Excluded from the scope are: (1) lemon juice at any level of concentration packed in retail-sized containers ready for sale to consumers, typically at a level of concentration of 48 GPL; and (2) beverage products such as lemonade that typically contain 20% or less lemon juice as an ingredient.

Lemon juice is classifiable under subheadings 2009.39.6020, 2009.31.6020, 2009.31.4000, 2009.31.6040, and 2009.39.6040 of the Harmonized Tariff Schedule of the United States (HTSUS). While HTSUS subheadings are provided for convenience and customs purposes, our written description of the scope of this suspended investigation is dispositive.

Termination

As a result of the determination by the ITC that termination of the suspended antidumping duty investigation would not be likely to lead to continuation or recurrence of material injury to an industry in the United States, pursuant to section 751(d)(2) of the Act, the Department is terminating the suspended antidumping duty investigation on lemon juice from Mexico. Pursuant to section 751(d)(2) of the Act and 19 CFR 351.222(i)(2)(i), the effective date of termination is September 21, 2012 (i.e., the fifth anniversary of the effective date of publication in the Federal Register of the notice of suspension of investigation).⁵ Because the Department is terminating the suspended antidumping duty investigation, the Agreement will also terminate, effective September 21, 2012.

⁵ Suspension of Antidumping Duty Investigation: Lemon Juice From Mexico, 72 FR 53995 (September 21, 2007).

Administrative Protective Order

This notice also serves as the only reminder to parties subject to administrative protective order (“APO”) of their responsibility concerning the return/destruction or conversion to judicial protective order of proprietary information disclosed under APO in accordance with 19 CFR 351.305(a)(3). Failure to comply is a violation of the APO which may be subject to sanctions. These five-year (sunset) reviews and notice are in accordance with section 75l(d)(2) the Act and published pursuant to section 777(i)(l) of the Act.

Dated: August 1, 2013.
Paul Piquado,
Assistant Secretary for Import Administration.

[FR Doc. 2013-19068 Filed 8-6-13; 8:45 am]

BILLING CODE 3510-DS-P